DEPARTMENT OF THE INTERIOR

Fish and Wildlife Service

Coyote Springs Investment Multi-Species Habitat Conservation Plan, Clark County and Lincoln County, NV

AGENCY: Fish and Wildlife Service, Interior.

ACTION: Notice of availability and receipt of application.

SUMMARY: This notice announces the availability of the draft Coyote Springs Investment Multi-Species Habitat Conservation Plan (Plan), draft Implementing Agreement (IA), and draft Environmental Impact Statement (EIS) for public review and comment. In response to receipt of an application from Coyote Springs Investment LLC (CSI; Applicant), we, the Fish and Wildlife Service (Service), are considering the proposed action of issuing a 40-year permit for five species. The proposed permit would authorize the take of individual species listed under the Federal Endangered Species Act of 1973, as amended (Act). The permit is needed because take of species could occur during proposed urban development activities located in a 21,454-acre area in southern Lincoln County, Nevada. In addition, take of species could occur during recreational and resource management activities within the 13,767-acre proposed Coyote Springs Resource Management Area (CSRMA), an area leased by the Applicant from the U.S. Bureau of Land Management (BLM), which would be managed for the conservation of the desert tortoise (Gopherus agassizii) and other covered species pending BLM approval, located in Clark and Lincoln counties, Nevada.

DATES: Written comments must be received by 5 p.m. on January 2, 2008.

ADDRESSES: Comments should be addressed to Robert D. Williams, Field Supervisor, Nevada Fish and Wildlife Office, 1340 Financial Boulevard, Suite 234, Reno, Nevada 89502-7147, fax number (775) 861-6301.

FOR FURTHER INFORMATION CONTACT: Robert D. Williams, Field Supervisor, Nevada Fish and Wildlife Office, 4701 N. Torrey Pines Drive, Las Vegas, Nevada 89130, telephone (702) 515-5230 and fax number (702) 515-5231.

SUPPLEMENTARY INFORMATION:

Availability of Documents

Copies of the draft Plan, draft IA and draft EIS are available for public review during regular business hours from 9 a.m. to 5 p.m. at the Nevada Fish and Wildlife Office in Las Vegas (see FOR FURTHER INFORMATION CONTACT). Individuals wishing copies of the draft Plan, draft IA, and draft EIS should contact the Service by telephone (see FOR FURTHER INFORMATION CONTACT) or by letter (see ADDRESSES). These documents also are available on the Nevada Fish and Wildlife Office Web site at http://www.fws.gov/nevada/highlights/comment/public_comment.html.

Background Information

Section 9 of the Federal ESA of 1973, as amended, and Federal regulations prohibit the take of fish and wildlife species listed as endangered or threatened (16 U.S.C. 1538). The term “take” means to harass, harm, pursue, hunt, shoot, wound, kill, trap, capture, or collect, or to attempt to engage in any such conduct (16 U.S.C. 1532). Harm includes significant habitat modification or degradation that actually kills or injures listed wildlife by significantly impairing essential behavioral patterns, including breeding, feeding, and sheltering [50 CFR 17.3(c)]. Under limited circumstances, we may issue permits to authorize incidental take of listed fish or wildlife; i.e., take that is incidental to, and not the purpose of, otherwise lawful activity. Regulations governing incidental take permits for threatened and endangered species are found in 50 CFR 17.32 and 17.22, respectively.

Although take of listed plant species is not prohibited under the Federal ESA, and therefore cannot be authorized under an incidental take permit, plant species may be included on a permit in recognition of the conservation benefits provided to them under a habitat conservation plan. All species included on an incidental take permit would receive assurances under the Services “No Surprises” regulation 50 CFR 17.22(b)(5) and 17.32(b)(5).

We have received an application for an incidental take permit for implementation of the Coyote Springs Investment Multi-Species Habitat Conservation Plan. The application has been prepared and submitted by Coyote Springs Investment LLC (Applicant). The Applicant has prepared the Plan to satisfy the application requirements for a section 10(a)(1)(B) permit under the Federal ESA, of 1973, as amended.

The Applicant seeks a 40-year incidental take permit for covered activities within a proposed 21,454-acre development area located in southern Lincoln County, Nevada. The development area extends approximately 9 miles north of the Lincoln County-Clark County line. The Plan also would cover approximately 13,767 acres of land leased from the BLM (approximately 7,548 acres) in Lincoln County and (approximately 6,219 acres) in Clark County. The leased lands would be managed for the conservation of the desert tortoise and other covered species pending BLM approval, and designated as the Coyote Springs Resource Management Area (CSRMA).

Land leased and owned by the Applicant occupies most of the eastern portion of Coyote Spring Valley straddling the Pahranagat Wash and the Kane Springs Wash in Lincoln County. This area is bordered by the Delamar Mountains to the north, the Meadow Valley Mountains to the east, and U.S. Highway 93 to the west. The leased land in Clark County is bordered by State Route 168 to the south. The surrounding land is primarily owned by the United States and is managed by either the BLM or Service. South of the development area, CSI privately-owned lands are being developed in Clark County and are covered under the existing Clark County Multi-Species Habitat Conservation Plan.

The Applicant has requested a permit for five animal species, two of which are currently listed as threatened or endangered under the Federal ESA. Proposed covered species include two animal species, the federally listed as threatened desert tortoise (Mojave population) and endangered Moapa dace (Moapa coriacea). Proposed covered species also include three animal species that are not listed under the Federal ESA at the current time: banded Gila monster (Heloderma suspectum cinctum), Virgin River chub (Gila seminuda) (Muddy River population), and the Western burrowing owl (Athene cunicularia hypugea).

If the proposed Plan is approved and the permit issued, take authorization of covered listed species would be effective at the time of permit issuance. Take of the currently non-listed covered species would be authorized concurrent with the species' listing under the Federal ESA, should they be listed during the duration of the permit.

The proposed Plan is intended to be a comprehensive document, providing for regional species conservation and habitat planning, while allowing the applicant to better manage growth of the proposed community, as development build-out would be phased in over time. The proposed Plan also is intended to provide a coordinated process for permitting and mitigating the take of covered species as an alternative to a project-by-project approach.

In order to comply with the requirements of the Federal ESA, the proposed Plan addresses a number of required elements, including: species and habitat goals and objectives; evaluation of the effects of covered activities on covered species, including indirect and cumulative effects; a conservation strategy; a monitoring and adaptive management program; descriptions of changed circumstances and remedial measures; identification of funding sources; and an assessment of alternatives to take of listed species.

The proposed development would be phased over a number of years. Up to 2,000 acres would be developed for the first eight years. A report would be due every two years that included an assessment of the level of take in relation to the amount requested in the Plan, and the implementation of conservation measures as outlined in the Plan. Every ten years until the expiration of the permit, a comprehensive assessment would be conducted of the expected effects to covered species and implementation of existing conservation measures. If the expected potential effects to covered species are significantly greater than the level assessed in the Plan, the Service will notify the Applicant of the need to implement additional conservation measures.

Proposed covered activities and projects within the Plan fall within six categories: community development and construction activities; recreational facilities and open space; utility infrastructure; water supply infrastructure; flood control structures development and maintenance (including stormwater management); and resource management features.

The Plan's conservation strategy was designed to minimize and mitigate the impacts of covered activities, contribute to the recovery of listed covered species, and protect and enhance populations of non-listed covered species, as proposed. The proposed conservation strategy provides for the establishment of the CSRMA on approximately 13,767 acres of leased land by the Applicant from the BLM (99-year lease with an automatic 99-year extension) in Clark and Lincoln counties. The proposed CSRMA would be managed for the conservation of the desert tortoise and other covered species. The CSRMA would also serve to achieve other complementary goals such as creation and use of walking and equestrian trails and a site to conduct research of covered species, as long as the primary biological goals of the Plan are met and not compromised. Other conservation measures include: (1) Develop and implement a long-term protection plan for the Moapa dace and Virgin River chub and secure associated funding for implementation of the plan; (2) payment of mitigation fees, based on a $800 per acre of disturbance, for the development of private land which would be used to fund research on the covered species and management of the CSRMA, and other mitigation measures as described in the Plan; and (3) creation of a wash buffer zone easement within the development area.

National Environmental Policy Act Compliance

Proposed permit issuance triggers the need for compliance with the National Environmental Policy Act (NEPA). As lead agency, the Service has prepared a draft EIS which analyzes alternatives associated with issuance of the Permit. The draft EIS also addresses issuance of a section 404 permit under the Clean Water Act by the U.S. Corps of Engineers (Corps) for the proposed urban development on 21,454-acre land and development of flood control facilities on approximately 3,331 acres of the utility corridor on BLM land west of U.S. Highway 93. The proposed flood control facilities on BLM-administered land is not included as a covered activity in the Plan but would be subject to a section 7 formal consultation under ESA. In addition, the draft EIS addresses the BLM's reconfiguration of the land holdings, the creation of the CSRMA, and, in consultation with the Service, entering into a management agreement with the Applicant covering the CSRMA. Cooperating agencies to the draft EIS include the Corps, BLM, and the U.S. Environmental Protection Agency.

The draft EIS analyzes three alternatives including the proposed Plan, described above. The proposed Plan is considered the Preferred Alternative (Restricted and Phased Development of a New Town Consisting of a Planned Community with Resource Management Features). Two other alternatives being considered by the Service include the following:

No Action Alternative: Under the No Action Alternative, the Service would not issue an incidental take permit for implementation of the Coyote Springs Investment Multi-Species Habitat Conservation Plan in Clark and Lincoln counties, Nevada. As a result, the Applicant's private lands in Lincoln County would likely be sold to individual landowners, who would be responsible for obtaining individual incidental take permits pursuant to section 10 under ESA and individual section 404 permits under the Clean Water Act. Leased lands would remain an island within the privately-owned land. Land leased by CSI from BLM in Lincoln County (7,548 acres) would continue to be available for the full suite of activities authorized in the Land Lease Agreement.

Alternative 1—Full and Immediate Development of a New Town Consisting of a Planned Community without Resource Management Features: This alternative would result in the issuance of an incidental take permit pursuant to section 10 of the ESA by the Service and a section 404 permit under the Clean Water Act by the Corps that would allow development of the entire CSI-owned private and leased lands in Lincoln County. The Applicant's private land would be available for development, while lands leased by the Applicant from BLM would be available for activities specified in the Land Lease Agreement. All land owned and leased by the Applicant would be available for development activities immediately upon issuance of an incidental take permit and other required regulatory permits.

Public Involvement

A Notice of Intent (NOI) to prepare an EIS was published in the Federal Register for this project on December 4, 2001 (66 FR 63065). The Plan described in the 2001 NOI included privately-owned, developable lands and leased land in Lincoln and Clark counties, Nevada. A second notice was published on September 12, 2006 (71 FR 53704) because the amount of land included in the Plan was modified. The Plan described in the second NOI includes private, developable lands in Lincoln County only, as well as leased land to be used for conservation in Clark and Lincoln counties. Public scoping meetings were held on September 26 and 27, 2006, in Alamo and Moapa, Nevada, respectively. A NOI to reopen the public comment period and to correct inaccurate contact information provided in the September 12, 2006 notice was published on November 2, 2006 (71 FR 64555).

Public Comments

The Service and Applicant invite the public to comment on the draft Plan, draft IA, and draft EIS during a 60-day public comment period beginning on the date of this notice. Before including your address, phone number, e-mail address, or other personal identifying information in your comment, you should be aware that your entire comment—including your personal identifying information—may be made publicly available at any time. While you may ask us in your comment to withhold your personal identifying information from public review, we cannot guarantee that we will be able to do so.

The Service will evaluate the application, associated documents, and comments submitted to them to prepare a final EIS. A permit decision will be made no sooner than 30 days after the publication of the final EIS and completion of the Record of Decision.

This notice is provided pursuant to section 10(a) of the Federal ESA and Service regulations for implementing NEPA, as amended (40 CFR 1506.6).

Dated: October 17, 2007.
Ken McDermond,
Deputy Manager, California/Nevada Operations Office, Sacramento, CA.

[FR Doc. E7-21504 Filed 11-1-07; 8:45 am]

BILLING CODE 4310-55-P